DEPARTMENT OF THE TREASURY

Office of Foreign Assets Control

Unblocking of Specially Designated Narcotics Traffickers Pursuant to Executive Order 12978

AGENCY: Office of Foreign Assets Control, Treasury.

ACTION: Notice.

SUMMARY: The Treasury Department's Office of Foreign Assets Control (“OFAC”) is publishing the name of 60 individuals whose property and interests in property have been unblocked pursuant to Executive Order 12978 of October 21, 1995, Blocking Assets and Prohibiting Transactions With Significant Narcotics Traffickers.

DATES: The unblocking and removal from the list of Specially Designated Narcotics Traffickers of 60 individuals identified in this notice whose property and interests in property were blocked pursuant to Executive Order 12978 of October 21, 1995, is effective on June 16, 2008.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on-demand service, tel.: (202) 622-0077.

Background

On October 21, 1995, the President, invoking the authority, inter alia, of the International Emergency Economic Powers Act (50 U.S.C. 1701-1706), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and Secretary of State, to play a significant role in international narcotics trafficking centered in Colombia; or (3) to materially assist in, or provide financial or technological support for goods or services in support of, the narcotics trafficking activities of persons designated in or pursuant to this order; and (4) persons determined by the Secretary of the Treasury, in consultation with the Attorney General and the Secretary of State, to be owned or controlled by, or to act for or on behalf of, persons designated pursuant to this Order.

On June 16, 2008, the Director of OFAC removed from the list of Specially Designated Narcotics Traffickers 60 individuals listed below, whose property and interests in property were blocked pursuant to the Order.

The listing of the unblocked individuals follows:

1. ARIAS TRIANA, Alicia, c/o CAJA SOLIDARIA, Bogota, Colombia; c/o COMUDROGAS LTDA., Bucaramanga, Colombia; c/o COPSERVIR LTDA., Bogota, Colombia; Cedula No. 63341345 (Colombia) (individual) [SDNT].

2. AYALA BURBANO, Vilma Eddy, c/o COOPERATIVA MERCANTIL DEL SUR LTDA., Pasto, Colombia; Cedula No. 30730438 (Colombia); Passport 30730438 (Colombia) (individual) [SDNT].

3. BAUTISTA GALLEGO, Carmen Mariela, c/o COPSERVIR LTDA., Bogota, Colombia; Cedula No. 34537461 (Colombia) (individual) [SDNT].

4. BELTRAN RODRIGUEZ, Alvaro, c/o CAJA SOLIDARIA, Bogota, Colombia; c/o COOPCREAR, Bogota, Colombia; DOB 10 Aug 1970; Cedula No. 79139759 (Colombia); Passport 79139759 (Colombia) (individual) [SDNT].

5. BERDUGO CASTILLO, Wilson Jose, c/o CAJA SOLIDARIA, Bogota, Colombia; c/o COPSERVIR LTDA., Bogota, Colombia; Cedula No. 8724954 (Colombia) (individual) [SDNT].

6. CABAL DAZA, Carlos Alfonso, c/o CAJA SOLIDARIA, Bogota, Colombia; c/o COOPIFARMA, Bucaramanga, Colombia; c/o COPSERVIR LTDA., Bogota, Colombia; c/o FARMAVISION LTDA., Bogota, Colombia; Carrera 13G No. 36A-03 Sur, Bogota, Colombia; Carrera 2N No. 39A-35, Bogota, Colombia; Cedula No. 79320690 (Colombia) (individual) [SDNT].

7. CARO MORENO, Arcadio, c/o COOPDISAN, Bucaramanga, Colombia; c/o DROGAS LA REBAJA BUCARAMANGA S.A., Bucaramanga, Colombia; Cedula No. 91207732 (Colombia); Passport 91207732 (Colombia) (individual) [SDNT].

8. CARTAGENA AVILA, Tito, c/o COOPERATIVA MERCANTIL COLOMBIANA COOMERCOL, Cali, Colombia; c/o COPSERVIR LTDA., Bogota, Colombia; DOB 6 Jun 1961; Cedula No. 16659672 (Colombia); Passport 16659672 (Colombia) (individual) [SDNT].

9. CASTANEDA CASTRO, Antonio, c/o CAJA SOLIDARIA, Bogota, Colombia; c/o COOMULCOSTA, Barranquilla, Colombia; c/o COPSERVIR LTDA., Bogota, Colombia; Cedula No. 8534700 (Colombia) (individual) [SDNT].

10. CASTRO CABAL, Maria Beatriz, c/o CONTACTEL COMUNICACIONES S.A., Cali, Colombia; c/o COPSERVIR LTDA., Bogota, Colombia; DOB 11 May 1974; Cedula No. 66772109 (Colombia); Passport 66772109 (Colombia) (individual) [SDNT].

11. CUERVO DE BUITRAGO, Elsy, c/o CAJA SOLIDARIA, Bogota, Colombia; c/o COPSERVIR LTDA., Bogota, Colombia; c/o FARMAVISION LTDA., Bogota, Colombia; Cedula No. 20791726 (Colombia) (individual) [SDNT].

12. DIAZ PONTON, Gonzalo, c/o COOPDISAN, Bucaramanga, Colombia; c/o DROGAS LA REBAJA BUCARAMANGA S.A., Bucaramanga, Colombia; Cedula No. 18938771 (Colombia); Passport 18938771 (Colombia) (individual) [SDNT].

13. DIAZ TOVAR, Moises, c/o CAJA SOLIDARIA, Bogota, Colombia; c/o COPSERVIR LTDA., Bogota, Colombia; c/o MEGAPHARMA LTDA., Bogota, Colombia; Cedula No. 12112342 (Colombia) (individual) [SDNT].

14. ESCALANTE CARROLL, Enrique Jose, c/o CAJA SOLIDARIA, Bogota, Colombia; c/o COPSERVIR LTDA., Bogota, Colombia; c/o FARMAVISION LTDA., Bogota, Colombia; Transv. 74 No. 10-14, Bogota, Colombia; Cedula No. 72170764 (Colombia) (individual) [SDNT].

15. ESTELA ELVIRA, Adrian Fernando, c/o COOPERATIVA MULTIACTIVA DE COLOMBIA FOMENTAMOS, Bogota, Colombia; c/o COPSERVIR LTDA., Bogota, Colombia; DOB 10 Apr 1968; Cedula No. 76306726 (Colombia); Passport 76306726 (Colombia) (individual) [SDNT].

16. ESTUPINAN DUARTE, Adriana, c/o CAJA SOLIDARIA, Bogota, Colombia; c/o COPSERVIR LTDA., Bogota, Colombia; Cedula No. 63445395 (Colombia) (individual) [SDNT].

17. FLOREZ ARCILA, Rafael Antonio, c/o COPSERVIR LTDA., Bogota, Colombia; c/o MEGAPHARMA LTDA., Bogota, Colombia; Cedula No. 79712667 (Colombia) (individual) [SDNT].

18. FORERO BENAVIDES, Patricia, c/o COPSERVIR LTDA., Bogota, Colombia; c/o FARMAVISION LTDA., Bogota, Colombia; Cedula No. 35522503 (Colombia) (individual) [SDNT].

19. GALINDO CARDOZO, Diego Fernando, c/o COOPCREAR, Bogota, Colombia; c/o COOPERATIVA MULTIACTIVA DE COLOMBIA FOMENTAMOS, Bogota, Colombia; c/o COOPERATIVA DE TRABAJO ASOCIADO ACTIVAR, Bogota, Colombia; DOB 2 Nov 1974; Cedula No. 94320862 (Colombia); Passport 94320862 (Colombia) (individual) [SDNT].

20. GARCIA MADERA, Jaime De Jesus, c/o CAJA SOLIDARIA, Bogota, Colombia; c/o COOPERATIVA DE TRABAJO ASOCIADO ACTIVAR, Bogota, Colombia; c/o COOPERATIVA MULTIACTIVA DE COLOMBIA FOMENTAMOS, Bogota, Colombia; c/o COPSERVIR LTDA., Bogota, Colombia; Cedula No. 13540183 (Colombia) (individual) [SDNT].

21. GARCIA MERA, Luis Alfredo, c/o CAJA SOLIDARIA, Bogota, Colombia; c/o COPSERVIR LTDA., Bogota, Colombia; c/o SOLUCIONES COOPERATIVAS, Bogota, Colombia; Cedula No. 16686291 (Colombia) (individual) [SDNT].

22. GARCIA ORDONEZ, Nubia Stella, c/o CAJA SOLIDARIA, Bogota, Colombia; c/o COPSERVIR LTDA., Bogota, Colombia; c/o MEGAPHARMA LTDA., Bogota, Colombia; Cedula No. 52031714 (Colombia) (individual) [SDNT].

23. GOMEZ, Teresa, c/o CAJA SOLIDARIA, Bogota, Colombia; c/o COOPIFARMA, Bucaramanga, Colombia; c/o COPSERVIR LTDA., Bogota, Colombia; c/o FARMAVISION LTDA., Bogota, Colombia; Carrera 71 No. 7E-39, Bogota, Colombia; Cedula No. 63347044 (Colombia) (individual) [SDNT].

24. GONZALEZ FIALLO, Humberto, c/o CAJA SOLIDARIA, Bogota, Colombia; c/o COPSERVIR LTDA., Bogota, Colombia; c/o FARMAVISION LTDA., Bogota, Colombia; Cedula No. 3746199 (Colombia) (individual) [SDNT].

25. HERNANDEZ IBARRA, Victor Hugo, c/o CAJA SOLIDARIA, Bogota, Colombia; c/o COPSERVIR LTDA., Bogota, Colombia; c/o MEGAPHARMA LTDA., Bogota, Colombia; Cedula No. 12133362 (Colombia) (individual) [SDNT].

26. IZQUIERDO OREJUELA, Patricia Constanza, c/o LABORATORIOS KRESSFOR DE COLOMBIA S.A., Bogota, Colombia; DOB 15 Sep 1951; Cedula No. 41594424 (Colombia) (individual) [SDNT].

27. JARAMILLO V., Leticia Eugenia, c/o TRIMARK LTDA., Bogota, Colombia; Cedula No. 43040333 (Colombia) (individual) [SDNT].

28. JIMENEZ GONZALEZ, Gustavo, c/o CAJA SOLIDARIA, Bogota, Colombia; c/o COPSERVIR LTDA., Bogota, Colombia; c/o MEGAPHARMA LTDA., Bogota, Colombia; Carrera 95A No. 138-58 Int. 30-101, Bogota, Colombia; DOB 6 Jul 1969; Cedula No. 12138123 (Colombia) (individual) [SDNT].

29. LOPEZ CHAUX, Jose Miller, c/o CAJA SOLIDARIA, Bogota, Colombia; c/o COPSERVIR LTDA., Bogota, Colombia; c/o MEGAPHARMA LTDA., Bogota, Colombia; Cedula No. 12111058 (Colombia) (individual) [SDNT].

30. LUNA CATANO, Monica, c/o COOPDISAN, Bucaramanga, Colombia; c/o COPSERVIR LTDA., Bucaramanga, Colombia; c/o DROGAS LA REBAJA BUCARAMANGA S.A., Bucaramanga, Colombia; DOB 9 Sep 1968; Cedula No. 63456704 (Colombia); Passport 63456704 (Colombia) (individual) [SDNT].

31. MARTINEZ ORTIZ, Patricia, c/o COPSERVIR LTDA., Bogota, Colombia; c/o SOLUCIONES COOPERATIVAS, Bogota, Colombia; Transv. 44 No. 53-14, Bogota, Colombia; Cedula No. 31914351 (Colombia) (individual) [SDNT].

32. MARTINEZ VARGAS, Nhora Isabel, c/o COOPDISAN, Bucaramanga, Colombia; c/o COPSERVIR LTDA., Bucaramanga, Colombia; c/o DROGAS LA REBAJA BUCARAMANGA S.A., Bucaramanga, Colombia; Cedula No. 63312197 (Colombia); Passport 63312197 (Colombia) (individual) [SDNT].

33. MERCHAN, Maria Isabel, c/o CAJA SOLIDARIA, Bogota, Colombia; c/o COPSERVIR LTDA., Bogota, Colombia; c/o FARMAVISION LTDA., Bogota, Colombia; Calle 50A Sur No. 88-43, Bogota, Colombia; Cedula No. 41701657 (Colombia) (individual) [SDNT].

34. MORENO BALANTA, Orlando, c/o CAJA SOLIDARIA, Bogota, Colombia; c/o COPSERVIR LTDA., Bogota, Colombia; Cedula No. 10555424 (Colombia) (individual) [SDNT].

35. MUNOZ TORRES, Sonia Marcela, c/o CAJA SOLIDARIA, Bogota, Colombia; c/o COPSERVIR LTDA., Bogota, Colombia; c/o FARMAVISION LTDA., Bogota, Colombia; Calle 42B No. 73-29, Bogota, Colombia; Cedula No. 52034959 (Colombia) (individual) [SDNT].

36. NEVADO, Sandra, c/o CAJA SOLIDARIA, Bogota, Colombia; c/o COOPIFARMA, Bucaramanga, Colombia; c/o COPSERVIR LTDA., Bogota, Colombia; Carrera 110 No. 124A-33 B. 110 Int. 6 ap. 403, Bogota, Colombia; Cedula No. 51944889 (Colombia) (individual) [SDNT].

37. OSPINA GOMEZ, Jose Fernando, c/o CAJA SOLIDARIA, Bogota, Colombia; c/o COPSERVIR LTDA., Bogota, Colombia; DOB 9 Sep 1962; Cedula No. 16674357 (Colombia); Passport 16674357 (Colombia) (individual) [SDNT].

38. PABON JAIMES, Alicia, c/o COOPDISAN, Bucaramanga, Colombia; c/o COPSERVIR LTDA., Bucaramanga, Colombia; c/o DROGAS LA REBAJA BUCARAMANGA S.A., Bucaramanga, Colombia; Cedula No. 63346404 (Colombia); Passport 63346404 (Colombia) (individual) [SDNT].

39. PALMA RODRIGUEZ, Wilfrido, c/o COPSERVIR LTDA., Bogota, Colombia; Cedula No. 8724911 (Colombia) (individual) [SDNT].

40. PALOMINO QUINTERO, Edgar Arnulfo, c/o COOPDISAN, Bucaramanga, Colombia; c/o COPSERVIR LTDA., Bogota, Colombia; c/o DROGAS LA REBAJA BUCARAMANGA S.A., Bucaramanga, Colombia; Cedula No. 91250721 (Colombia); Passport 91250721 (Colombia) (individual) [SDNT].

41. PENA OJEDA, Wilton Orlando, c/o COOPCREAR, Bogota, Colombia; c/o COOPERATIVA MULTIACTIVA DE COLOMBIA FOMENTAMOS, Bogota, Colombia; c/o COOPERATIVA DE TRABAJO ASOCIADO ACTIVAR, Bogota, Colombia; DOB 1 Apr 1975; Cedula No. 79688099 (Colombia); Passport 79688099 (Colombia) (individual) [SDNT].

42. PINEDA BASALLO, Jenny, c/o COOPERATIVA MULTIACTIVA DE COLOMBIA FOMENTAMOS, Bogota, Colombia; c/o COSMEPOP, Bogota, Colombia; c/o COOPCREAR, Bogota, Colombia; c/o CAJA SOLIDARIA, Bogota, Colombia; c/o COOPERATIVA DE TRABAJO ASOCIADO ACTIVAR, Bogota, Colombia; DOB 6 Jul 1974; Cedula No. 52204760 (Colombia); Passport 52204760 (Colombia) (individual) [SDNT].

43. PINTO RAMIREZ, Yaneth, c/o CAJA SOLIDARIA, Bogota, Colombia; c/o COPSERVIR LTDA., Bogota, Colombia; Cedula No. 63342484 (Colombia) (individual) [SDNT].

44. RAMIREZ CARDONA, Gerardo de Jesus, c/o COOPERATIVA MERCANTIL DEL SUR LTDA., Pasto, Colombia; c/o COPSERVIR LTDA., Bogota, Colombia; Cedula No. 14645156 (Colombia); Passport 14645156 (Colombia) (individual) [SDNT].

45. RIVAS ORTIZ, Sonia, c/o CAJA SOLIDARIA, Bogota, Colombia; c/o COOPERATIVA DE TRABAJO ASOCIADO ACTIVAR, Bogota, Colombia; c/o COPSERVIR LTDA., Bogota, Colombia; Calle 52B No. 24-31, Cali, Colombia; Carrera 6 No. 11-43 of. 505, Cali, Colombia; DOB 11 Apr 1975; Cedula No. 66956760 (Colombia) (individual) [SDNT].

46. ROMERO INFANTE, Diana, c/o CAJA SOLIDARIA, Bogota, Colombia; c/o COPSERVIR LTDA., Bogota, Colombia; c/o MEGAPHARMA LTDA., Bogota, Colombia; Cedula No. 51976407 (Colombia) (individual) [SDNT].

47. ROMERO LOPEZ, Nydia Cristina (a.k.a. ROMERO LOPEZ, Nidia Cristina), c/o CAJA SOLIDARIA, Bogota, Colombia; c/o COPSERVIR LTDA., Bogota, Colombia; c/o TRIMARK LTDA., Bogota, Colombia; Cedula No. 66978367 (Colombia) (individual) [SDNT].

48. SALAS BARROS, German Jose, c/o CAJA SOLIDARIA, Bogota, Colombia; c/o COPSERVIR LTDA., Bogota, Colombia; c/o FARMAVISION LTDA., Bogota, Colombia; Cedula No. 72147640 (Colombia) (individual) [SDNT].

49. SALCEDO BONILLA, Monica, c/o COPSERVIR LTDA., Bogota, Colombia; c/o SOLUCIONES COOPERATIVAS, Bogota, Colombia; Cedula No. 31979753 (Colombia) (individual) [SDNT].

50. SANCHEZ MARMOL, Maryurida, c/o COOPDISAN, Bucaramanga, Colombia; c/o DROGAS LA REBAJA BUCARAMANGA S.A., Bucaramanga, Colombia; DOB 23 Feb 1970; Cedula No. 63456242; Passport 63456242 (Colombia) (individual) [SDNT].

51. SANTOYO ORTIZ, Nelson, c/o COOPDISAN, Bucaramanga, Colombia; c/o COPSERVIR LTDA., Bucaramanga, Colombia; c/o DROGAS LA REBAJA BUCARAMANGA S.A., Bucaramanga, Colombia; c/o CAJA SOLIDARIA, Bogota, Colombia; c/o COMUDROGAS LTDA., Bucaramanga, Colombia; Cedula No. 91290248 (Colombia); Passport 91290248 (Colombia) (individual) [SDNT].

52. SERNA SERNA, Jairo, c/o CAJA SOLIDARIA, Bogota, Colombia; c/o COPSERVIR LTDA., Bogota, Colombia; Cedula No. 14888822 (Colombia) (individual) [SDNT].

53. SILVA AVENDANO, Carlos Julio, c/o CAJA SOLIDARIA, Bogota, Colombia; c/o COPSERVIR LTDA., Bogota, Colombia; c/o FARMAVISION LTDA., Bogota, Colombia; Carrera 4A No. 36B-07, Bogota, Colombia; Cedula No. 3229188 (Colombia) (individual) [SDNT].

54. SILVA OLARTE, Pedro Eliseo, c/o CAJA SOLIDARIA, Bogota, Colombia; c/o COPSERVIR LTDA., Bogota, Colombia; c/o FARMAVISION LTDA., Bogota, Colombia; Cedula No. 19407837 (Colombia) (individual) [SDNT].

55. SOTO CELIS, Oscar, c/o COPSERVIR LTDA., Bogota, Colombia; Cedula No. 16546889 (Colombia) (individual) [SDNT].

56. STEFFENS VILLARREAL, Alberto Arturo, c/o CAJA SOLIDARIA, Bogota, Colombia; c/o COPSERVIR LTDA., Bogota, Colombia; c/o TRIMARK LTDA., Bogota, Colombia; Cedula No. 8779928 (Colombia) (individual) [SDNT].

57. TARAZONA HERNANDEZ, Edgar Javier, c/o CAJA SOLIDARIA, Bogota, Colombia; c/o COPSERVIR LTDA., Bogota, Colombia; Cedula No. 91253529 (Colombia) (individual) [SDNT].

58. TRUJILLO, Maria Fernanda, c/o CAJA SOLIDARIA, Bogota, Colombia; c/o COPSERVIR LTDA., Bogota, Colombia; c/o MEGAPHARMA LTDA., Bogota, Colombia; Cedula No. 36184410 (Colombia) (individual) [SDNT].

59. VALENZUELA OTALORA, Manuel Enrique, c/o CAJA SOLIDARIA, Bogota, Colombia; c/o COPSERVIR LTDA., Bogota, Colombia; c/o MEGAPHARMA LTDA., Bogota, Colombia; Cedula No. 7695208 (Colombia) (individual) [SDNT].

60. VELASQUEZ SCARPETTA, Elizabeth, c/o COPSERVIR LTDA., Bogota, Colombia; c/o SOLUCIONES COOPERATIVAS, Bogota, Colombia; Cedula No. 31844085 (Colombia) (individual) [SDNT].

Dated: June 16, 2008.
Adam J. Szubin,
Director, Office of Foreign Assets Control.

[FR Doc. E8-14018 Filed 6-19-08; 8:45 am]

BILLING CODE 4811-45-P